ENVIRONMENTAL PROTECTION AGENCY

[EPA-HQ-SFUND-2013-0549; FRL-8932-01-OLEM]

Proposed Information Collection Request; Comment Request: Information Collection Request Submitted to OMB for Review and Approval; Notification of Episodic Releases of Oil and Hazardous Substances (Renewal) EPA ICR Number 1049.15, OMB Control Number 2050-0046

AGENCY: Environmental Protection Agency (EPA).

ACTION: Notice.

SUMMARY: The Environmental Protection Agency is planning to submit an information collection request (ICR), Notification of Episodic Releases of Oil and Hazardous Substances (Renewal) (EPA ICR Number 1049.15, OMB Control Number 2050-0046) to the Office of Management and Budget (OMB) for review and approval in accordance with the Paperwork Reduction Act. Before doing so, EPA is soliciting public comments on specific aspects of the proposed information collection as described in SUPPLEMENTARY INFORMATION. This is a proposed extension of the ICR, which is currently approved through May 31, 2022. An agency may not conduct or sponsor and a person is not required to respond to a collection of information unless it displays a currently valid OMB control number.

DATES: Comments must be submitted on or before November 22, 2021.

ADDRESSES: Submit your comments, referencing Docket ID No. EPA-HQ-SFUND-2013-0549, to: (1) EPA online using www.regulations.gov (our preferred method) or by mail to: EPA Docket Center, Environmental Protection Agency, Mail Code 28221T, 1200 Pennsylvania Ave., NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents which explain in detail the information that EPA will be collecting are available in the public docket for this ICR. The docket can be viewed online at http://www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Section 103(a) of the Comprehensive Environmental Response, Compensation, and Liability Act (CERCLA), as amended, requires the person in charge of a facility or vessel to immediately notify the National Response Center (NRC) of a hazardous substance release into the environment if the amount of the release equals or exceeds the substance's reportable quantity (RQ) limit. The RQs for the hazardous substance can be found in Table 302.4 of 40 CFR 302.4. Section 311 of the Clean Water Act (CWA) as amended, requires the person in charge of a vessel to immediately notify the NRC of an oil spill into U.S. navigable waters if the spill causes a sheen, violates applicable water quality standards, or causes a sludge or emulsion to be deposited beneath the surface of the water or upon adjoining shorelines. The reporting of a hazardous substance release that is at or above the substance's RQ allows the federal government to determine whether a federal response action is required to control or mitigate any potential adverse effects to public health or welfare or the environment. Likewise, the reporting of oil spills allows the federal government to determine whether cleaning up the oil spill is required to mitigate or prevent damage to public health or welfare or the environment. The hazardous substance and oil release information collected under CERCLA section 103(a) and CWA section 311 also is available to EPA program offices and other federal agencies that use the information to evaluate the potential need for additional regulations, new permitting requirements for specific substances or sources, or improved emergency response planning.

Release notification information is stored in EPA's WebEOC, a web-based crisis management system which supports response management for significant incidents and daily operations in the Regional Response Centers and EPA's Headquarters Emergency Operations Center. State and local government authorities and the regulated community use release information for purposes of local emergency response planning. The general public has access to release information through the Freedom of Information Act. The public may request release information for purposes of maintaining an awareness of what types of releases are occurring in different localities and what actions, if any, are being taken to protect public health and welfare and the environment.

The burden estimates, numbers and types of respondents, wage rates and unit and total costs for this ICR renewal will be revised and updated if needed during the 60-day comment period while the ICR Supporting statement is undergoing review at OMB.

Form Numbers: None.

Respondents/affected entities: Facilities and vessels that may have releases of any hazardous substances or oil at or above its RQ.

Respondent's obligation to respond: Mandatory under CERCLA section 103 (a).

Estimated number of respondents: 18,447.

Frequency of response: As releases occur from a facility or a vessel.

Total estimated burden: 18,816 hours (per year). Burden is defined at 5 CFR 1320.03(b).

Total estimated cost: $1,046,314 (per year), which includes no capital or operation and maintenance costs associated with this ICR.

Changes in Estimates: Any change in burden or cost resulting from the 60-day OMB review period will be described and explained in this section when the updated ICR Supporting Statement is completed.

Dated: September 16, 2021.
Donna Salyer,
Director, Office of Emergency Management.

[FR Doc. 2021-20561 Filed 9-22-21; 8:45 am]

BILLING CODE 6560-50-P